DEPARTMENT OF LABOR

Employment and Training Administration

Notice of Funding Opportunity and Solicitation for Grant Applications (SGA) for the Young Parents Demonstration

AGENCY: Employment and Training Administration, Labor.

ACTION: Notice of Solicitation for Grant Applications (SGA).

Funding Opportunity Number: SGA/DFA PY-10-12

SUMMARY: The Employment and Training Administration (ETA), U.S. Department of Labor announces the availability of approximately $5.5 million authorized by the Consolidated Appropriations Act of 2010 to support applicants in providing intensive mentoring services to low-income young parents (both mothers and fathers, and expectant parents ages 16 to 24) participating in workforce development programs. Activities under this SGA are authorized under Section 171(b) of the Workforce Investment Act, which allows for demonstration and pilot projects for the purpose of developing and implementing techniques and approaches, and demonstrating the effectiveness of specialized methods, in addressing employment and training needs.

The complete SGA and any subsequent SGA amendments, in connection with the Consolidated Appropriations Act of 2010 is described in further detail on ETA's Web site at http://www.doleta.gov/grants or on http://www.grants.gov. The Web sites provide application information, eligibility requirements, review and selection procedures and other program requirements governing this solicitation.

DATES: The closing date for receipt of applications is April 29, 2011.

FOR FURTHER INFORMATION CONTACT: Latifa Jeter, 200 Constitution Avenue, NW., Room N4716, Washington, DC 20210; Telephone: 202-693-3553.

Signed at Washington, DC, this 25th day of March, 2011.
Eric D. Luetkenhaus,
Grant Officer, Employment and Training Administration.

[FR Doc. 2011-7556 Filed 3-30-11; 8:45 am]

BILLING CODE 4510-FN-P